DEPARTMENT OF TRANSPORTATION

Federal Highway Administration

Supplemental Environmental Impact Statement; Washington County, MN, and St. Croix, County, WI

AGENCY: Federal Highway Administration (FHWA), DOT.

ACTION: Revised notice of intent.

SUMMARY: The FHWA is issuing this revised notice to advise the public that a supplemental environmental impact statement (EIS) will be prepared for a proposed highway project on Minnesota Trunk Highway (TH) 36 and Wisconsin State Trunk Highway (STH) 64, including a new crossing of the St. Croix River in Washington County, Minnesota and St. Croix County, Wisconsin. The project extends from TH 5 in Oak Park Heights, Minnesota to approximately 150th Avenue in Houlton, Wisconsin.

FOR FURTHER INFORMATION CONTACT: Cheryl Martin, Federal Highway Administration, Galtier Plaza, 380 Jackson Street, Suite 500, St. Paul, Minnesota 55101, Telephone (651) 291-6120; Todd Clarkowski, Area Engineer, Minnesota Department of Transportation, 1500 West County Road B2, MS 050, Roseville, Minnesota 55113, Telephone (651) 582-1169; or Terry Pederson, District Planning Projects Engineer, Wisconsin Department of Transportation, 718 West Clairemont Avenue, Eau Claire, Wisconsin 54701, Telephone (800) 991-5285 or (715) 836-2857.

SUPPLEMENTARY INFORMATION: The FHWA, in cooperation with the Minnesota Department of Transportation (Mn/DOT) and Wisconsin Department of Transportation, will prepare a supplement to the EIS on a proposal for a new river crossing, including the reconstruction of bridge approach roadways, on TH 36/STH 64 from TH 5 in Oak Park Heights, Washington County, Minnesota to approximately 150th Avenue on STH 35/64 in Houlton, St. Croix County, Wisconsin. Mn/DOT is the lead State agency.

The original EIS for the river crossing (FHWA-MN-EIS-90-92-F) was approved on April 5, 1995 with a Board of Decision issued on July 10, 1995. In 1996, the National Park Service issued an adverse effect finding for the project under section 7(a) of the Federal Wild and Scenic Rivers Act. Therefore, resource agency permits were unable to be issued for the project.

In June 2003, discussion regarding scoping alternatives was reinitiated as part of a Stakeholder Resolution Process. The Stakeholder Group includes Federal, State and Local agencies, environmental groups, historic preservation groups, and other interested organizations. At the Stakeholder Group meetings, all alternatives previously studied, as well as new alternatives, were reconsidered. Through the Stakeholder Resolution Process, five alternatives were identified as having the best potential for meeting the project's transportation needs and environmental and historical impact concerns. A “2003 Amended Scoping Document and 2003 Amended Draft Scoping Decision Document” were released in November 2003. Public scoping meetings were held in December 2003. Based on public, agency and Stakeholder Group comments on the document, four alternatives, in addition to the No-Build alternative, have been identified for study in the supplemental Draft EIS. Therefore, the supplemental EIS will evaluate the social, economic, transportation an environmental impacts of alternatives, including: (1) No-Build, (2) Alternative B—construction of a new four-lane bridge (two through-traffic lanes in each direction) located approximately 6,500 feet south of the existing lift bridge (South Ravine Option), (3) Alternative C—construction of a new four-lane bridge (two through-traffic lanes in each direction) located approximately 3,900 feet south of the existing lift bridge, (4) Alternative D— construction of a new four-lane bridge (two through-traffic lanes in each direction) located approximately 700 feet south of the existing lift bridge on the Minnesota shore and meeting the Wisconsin bluff near the existing lift bridge crossing, and (5) Alternative E—construction of a new two-lane bridge (two through-traffic lanes for eastbound traffic) located approximately 500-700 feet south of the existing lift bridge on the Minnesota shore and meeting the Wisconsin bluff near the existing lift bridge crossing. The existing lift bridge would be used as a two-lane roadway for westbound traffic.

It is anticipated that the final “2003 Amended Scoping Decision Document” will be published in March 2004. Coordination has been initiated and will continue with appropriate Federal, State and local agencies and private organizations and citizens who have previously expressed or are known to have an interest in the proposed action. To ensure that the full range of issues related to this proposed action are addressed and all significant issues identified, comments and suggestions are invited from all interested parties. Comments or questions concerning this proposed action and the supplemental EIS should be directed to the FHWA at the address provided above.

(Catalog of Federal Domestic Assistance program Number 20.205, Highway Planning and Construction. The regulations implementing Executive order 12372 regarding intergovernmental consultation on Federal programs and activities apply to this program.)
Issued on: March 8, 2004.
Stanley M. Graczyk,
Project Development Engineer, Federal Highway Administration, St. Paul, Minnesota.

[FR Doc. 04-6114 Filed 3-17-04; 8:45 am]

BILLING CODE 4910-22-M